SURFACE TRANSPORTATION BOARD

[Docket No. AB 1339X]

Walkersville Southern Railroad, Inc.—Discontinuance of Service Exemption—in Frederick County, Md.

Walkersville Southern Railroad, Inc. (WSRR), has filed a verified notice of exemption under 49 CFR part 1152 subpart F—Exempt Abandonments and Discontinuances of Service to discontinue service over an approximately 2.21-mile rail line known as the Frederick Secondary Track extending between milepost 65.17, valuation station 3442+61.4 and milepost 67.38, valuation station 3560+00 north of the City of Frederick, in Frederick County, Md (the Line).¹ The Line traverses U.S. Postal Service Zip Codes 21705 and 21793.

¹ The Interstate Commerce Commission (ICC), the Board's predecessor, authorized WSRR to operate the Line in 1993. The Line is owned by the Maryland Transit Administration, on behalf of the State of Maryland. See Walkersville So. R.R.—Operation Exemption—Line Owned by the State of Md., Docket No. FD 32329 (ICC served Sept. 30, 1993).

WSRR has certified that: (1) no local traffic has moved over the Line for at least two years; (2) no overhead traffic will need to be rerouted over other lines; (3) no formal complaint filed by a user of rail service on the Line (or a state or local government entity acting on behalf of such user) regarding cessation of service over the Line either is pending with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on May 5, 2024, unless stayed pending reconsideration Petitions to stay that do not involve environmental issues and formal expressions of intent to file an OFA to subsidize continued rail service under 49 CFR 1152.27(c)(2) ³ must be filed by April 15, 2024. Petitions for reconsideration must be filed by April 25, 2024.

² Persons interested in submitting an OFA to subsidize continued rail service must first file a formal expression of intent to file an offer, indicating the intent to file an OFA for subsidy and demonstrating that they are preliminarily financially responsible. See 49 CFR 1152.27(c)(2)(i).

³ The filing fee for OFAs can be found at 49 CFR 1002.2(f)(25).

No environmental review is required here where the underlying right-of-way was previously abandoned and where there is no indication that the discontinuance will result in potentially significant environmental impacts.⁴ See 49 CFR 1105.6(c)(1).

⁴ See City of Peoria—Discontinuance of Serv. Exemption—Peoria Cnty, Ill., AB 1066 (Sub-No. 3X) (STB served June 5, 2023). The ICC and the parties treated the Line as abandoned when WSRR received operating authority. See Walkersville So. R.R.—Operation Exemption—Line Owned by the State of Md., FD 32329, slip op. at 1 n.1 (ICC served Sept. 30, 1993).

On March 18, 2024, Frederick County, Md. (Frederick County), filed a request for a notice of interim trail use or abandonment (NITU) to negotiate with CSXT to establish interim trail use and rail banking for the Line, under the National Trails System Act, 16 U.S.C. 1247(d). Also on March 18, MTA filed a letter agreeing to negotiate with MTA toward a possible interim trail use/rail banking arrangement for the Line. Frederick County's request will be addressed in a subsequent Board decision.

All pleadings, referring to Docket No. AB 1339X, must be filed with the Surface Transportation Board via e-filing on the Board's website or in writing addressed to 395 E Street SW, Washington, DC 20423-0001. Additionally, a copy of each pleading filed with the Board must be sent to WSRR's representative, Wayne Kirchhof, President, Walkersville Southern Railroad, Inc., 34 West Pennsylvania Avenue, Walkersville, MD 21793.

If the verified notice contains false or misleading information, the exemption is void ab initio.

Board decisions and notices are available at www.stb.gov.

Decided: April 2, 2024.
By the Board, Scott M. Zimmerman, Acting Director, Office of Proceedings.
Stefan Rice,
Clearance Clerk.

[FR Doc. 2024-07299 Filed 4-4-24; 8:45 am]

BILLING CODE 4915-01-P